COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by nonprofit agencies employing persons who are blind or have other severe disabilities, and deletes products and services from the Procurement List previously furnished by such agencies.

DATES: Date added to and deleted from the Procurement List: June 28, 2020.

ADDRESSES: Committee for Purchase From People Who Are Blind or Severely Disabled, 1401 S Clark Street, Suite 715, Arlington, Virginia 22202-4149.

FOR FURTHER INFORMATION CONTACT: Michael R. Jurkowski, Telephone: (703) 603-2117, Fax: (703) 603-0655, or email CMTEFedReg@AbilityOne.gov.

SUPPLEMENTARY INFORMATION:

Additions

On 4/24/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s):

MR 13030—Vegetable Chopper

MR 13047—Container, Leakproof, On-the-Go, Clear, Lunch

MR 13048—Container, Leakproof, On-the-Go, Clear, Salad

Mandatory Source of Supply: Cincinnati Association for the Blind, Cincinnati, OH

Contracting Activity: Military Resale-Defense Commissary Agency

Deletions

On 4/24/2020, the Committee for Purchase From People Who Are Blind or Severely Disabled published notice of proposed deletions from the Procurement List. This notice is published pursuant to 41 U.S.C. 8503 (a)(2) and 41 CFR 51-2.3.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

6510-00-200-3185—Bandage, Gauze, Compressed, Camouflaged, 3 in x 6 yds.

6510-00-083-5573—Dressing, First Aid, Field, White

6510-00-201-1755—Bandage, Muslin, Compressed, Olive Drab Green, Camouflaged, 37″ x 37″ x 52″

6510-00-201-7680—Compress and Skullcap, Head Dressing

6510-00-159-4883—Dressing, First Aid, Field, Camouflaged, Pad

6510-00-201-7425—Dressing, First Aid, Field, Camouflaged 11¾″ x 11¾″

6510-00-201-7430—Dressing, First Aid, Field, Camouflaged 7¾″ x 7¼″

6510-00-200-3075—Compress and Bandage, Camouflaged, 2 in x 2 in

6510-00-200-3080—Compress and Bandage, Camouflaged, 4 in x 4 in

6510-00-200-3180—Bandage, Gauze, Compressed, Camouflaged, 2 in x 6 yds

6510-00-200-3190—Bandage, Gauze, Compressed, Camouflaged, 4 in by 6 yds

Mandatory Source of Supply: Elwyn, Aston, PA

Contracting Activity: DLA TROOP SUPPORT, PHILADELPHIA, PA

Services

Service Type: Reprographics

Mandatory for: Department of Energy, Washington, DC

Mandatory Source of Supply: Sinai Hospital of Baltimore (Vocational Services Program), Baltimore, MD

Contracting Activity: ENERGY, DEPARTMENT OF, HEADQUARTERS PROCUREMENT SERVICES

Service Type: Janitorial/Custodial

Mandatory for: MICC, West Point, USMA West Point, Sherman (Bldg. 738) & Lee Barracks (Bldg. 740), West Point Academy, West Point, NY

Mandatory Source of Supply: Access: Supports for Living Inc., Middletown, NY

Contracting Activity: DEPT OF THE ARMY, W6QM MICC-WEST POINT

Service Type: Administrative Services

Mandatory for: U.S. Department of the Treasury, Office of Technical Assistance, 740 15th Street NW, 4th Floor, Washington, DC

Mandatory for: Saudi-Arabian Joint Commission Office, Washington, DC

Mandatory Source of Supply: ServiceSource, Inc., Oakton, VA

Contracting Activity: DEPARTMENTAL OFFICES, NATIONAL OFFICE—DO OTPS/TOPS

Michael R. Jurkowski,
Deputy Director, Business & PL Operations.

[FR Doc. 2020-11558 Filed 5-28-20; 8:45 am]

BILLING CODE 6353-01-P